DEPARTMENT OF HEALTH AND HUMAN SERVICES

Centers for Disease Control and Prevention

[Docket No. CDC-2021-0106; NIOSH-344]

Interventions To Prevent Work-Related Stress and Support Health Worker Mental Health; Request for Information

AGENCY: Centers for Disease Control and Prevention, HHS.

ACTION: Request for information.

SUMMARY: The National Institute for Occupational Safety and Health (NIOSH), within the Centers for Disease Control and Prevention (CDC), announces an opportunity for the public to provide information and comments on current evidence-based, workplace and occupational safety and health interventions to prevent work-associated stress, support stress reduction, and foster positive mental health and well-being among the nation's health workers. Information and comments are also requested on interventions under development and research in progress to support and promote the mental health and well-being of health workers. NIOSH is seeking information on related best practices, promising practices, or successful programs related to providing stress prevention and mental health services to health workers. Examples of such services include, but are not limited to, employee assistance programs, screenings, supervisor trainings, workplace policies, talk therapy, mindfulness, peer support, and mobile apps.

DATES: Comments must be received by November 26, 2021.

ADDRESSES: Comments may be submitted through either of the following two methods:

• Federal eRulemaking Portal: http://www.regulations.gov (follow the instructions for submitting comments), or

• By Mail: NIOSH Docket Office, Robert A. Taft Laboratories, MS C-34, 1090 Tusculum Avenue, Cincinnati, Ohio 45226-1998.

Instructions: All written submissions received in response to this notice must include the agency name (Centers for Disease Control and Prevention, HHS) and docket number (CDC-2021-0106; NIOSH-344) for this action. All relevant comments, including any personal information provided, will be posted without change to http://www.regulations.gov.

FOR FURTHER INFORMATION CONTACT: Rachel Weiss, Program Analyst; 1090 Tusculum Ave., MS: C-48, Cincinnati, OH 45226; telephone (855) 818-1629 (this is a toll-free number); email NIOSHregs@cdc.gov.

SUPPLEMENTARY INFORMATION: The Centers for Disease Control and Prevention (CDC) is charged by the American Rescue Plan Act of 2021 (Pub. L. 117-2, sec. 2704) with educating health workers and first responders on primary prevention of mental health conditions and substance use disorders and encouraging these professionals to identify and seek support for their own mental health or substance use concerns. Accordingly, CDC's National Institute for Occupational Safety and Health (NIOSH) announces an opportunity for the public to provide information and comments on evidence-based workplace and occupational safety and health interventions, policies, or other activities relevant to health care professionals and first responders, including those at the population, organizational, or individual levels. Information and comments are requested on related interventions under development and research in progress. NIOSH is also seeking information on related best practices, promising practices, or successful programs related to providing stress prevention and mental health services to health workers.

Health workers include everyone who works in healthcare—for public and private providers, in clinical and community settings—such as first responders, admitting and ward clerks, laboratory technologists and technicians, nurses, physicians, environmental services workers, and food service staff in healthcare settings. Health workers face many demands at work, which may include difficult working conditions, long work hours, rotating and irregular shifts, exposure to human suffering and death, and increased risks for personal exposure to disease and harm.¹ The COVID-19 pandemic has exacerbated these challenges and contributed to new and worsening mental health concerns, including burnout, compassion fatigue, depression, anxiety, substance use disorders, and suicidal ideation. These concerns, in turn, can affect workers' overall health, job performance, and patient care and safety.²

¹ National Occupational Research Agenda (NORA) Healthcare and Social Assistance Council. National Occupational Research Agenda for Healthcare and Social Assistance (HCSA). February 2019. https://www.cdc.gov/nora/councils/hcsa/pdfs/National_Occpational_Agenda_for_HCSA_February_2019-508.pdf.

² National Academy of Medicine. Strategies to Support the Health and Well-Being of Clinicians during the COVID-19 Outbreak. https://nam.edu/initiatives/clinician-resilience-and-well-being/clinician-well-being-strategies-during-covid-19/.

Many lower-paid or part-time health workers—such as home health aides, orderlies, medical assistants, phlebotomists, and pharmacy aides—may have experienced barriers preventing access to health care services and information, including financial challenges, lack of health insurance coverage, or lack of adequate transportation. They can also face lack of recognition and civility (including threatened and actual workplace violence) for the important work they do. Even health workers who are not on the frontlines or at high risk of infection may still encounter work demands that cause poor mental health outcomes.³

³ See supra note 1.

Public health workers are also at increased risk for negative mental health consequences when responding to public health emergencies, such as the COVID-19 pandemic, where they must operate under high-stakes conditions for extended periods of time without relief.⁴

⁴ Bryant-Genevier J, Rao CY, Lopes-Cardozo B, et al. Symptoms of Depression, Anxiety, Post-Traumatic Stress Disorder, and Suicidal Ideation Among State, Tribal, Local, and Territorial Public Health Workers During the COVID-19 Pandemic — United States, March-April 2021. MMWR Morb Mortal Wkly Rep 2021;70:947-952.

NIOSH is interested in receiving comments and other relevant, evidence-based information from a variety of partners, including employers, labor unions, workers, researchers, treatment providers, and government agencies at all levels (Federal, State, Territorial, local, and Tribal). Information provided, including narrative evidence, data, or anecdotes, will support nation-wide efforts to raise awareness of mental health concerns, identify best practices to prevent and reduce work stress and related adverse mental health outcomes, identify workplace and community supports, and reduce stigma related to seeking and receiving care. NIOSH may use the information provided to assimilate the best available evidence; develop a repository of best practices, resources, and interventions; identify and adapt tools; improve data and surveillance; and develop trainings and resources to inform and support employer policy change. NIOSH will also generate awareness by conducting a national social marketing campaign to provide tools and resources to employers, normalize the conversation around mental health, and lower barriers for health workers seeking care for mental health.

Commenters are not required to respond to the questions below and may respond to as many or few as desired. While all inputs are welcomed, comments addressing the following questions are especially helpful:

Questions for Workplaces With Interventions and Services in Place

1. Please tell us about your experience with the development of any preventive interventions currently in place in your workplace to help health workers avoid work-related stress and maintain or improve their mental health and well-being. Describe the intervention's origins and basis, its target population, evaluation or outcome measures, challenges and successes, as well as any other information you think is noteworthy.

2. Please tell us about your experience with the development of any diagnostic and/or therapeutic services offered in your workplace by the employer or union to health workers who are experiencing stress or difficulties with their mental health and well-being. Describe the services' origins and bases, their target population, evaluation or outcome measures, challenges and successes, as well as any other information you think is noteworthy.

3. For both preventive interventions and diagnostic/treatment services in your workplace, please describe how widely the services are used, how stigma associated with seeking mental health care is addressed, and how health workers are encouraged to participate. In your experience, how does the workplace benefit from implementing interventions or offering services to health workers to prevent/reduce work-related stress, to decrease stigma related to seeking and receiving care, and to improve the mental health and well-being of health workers?

4. Please describe any programs you are aware of that help employers to fund or otherwise develop interventions or services to support health worker mental health and well-being.

Questions About Workplaces

5. Please tell us about your experience with any workplace policies designed to protect workers from stress and adverse mental health outcomes and to address these issues. Describe the part(s) of your organization involved in work-associated stress prevention efforts.

Questions About Health Workers' Communication Preferences

6. Please tell us about your workplace's most effective methods of informing health workers about available interventions, services, and workplace practices and policies, including but not limited to: Notification channels, trusted messengers (e.g., upper management, front line supervisor, union representatives), and efforts to reach workers who are underserved by mental health/behavioral health resources.

7. In your experience, do workers seek mental health and well-being information outside the workplace and, if so, where (e.g., community-based, faith-based)? Do health workers generally find sources of information outside the workplace more trustworthy and credible than employer-based programs? If so, what is the basis for this understanding and what efforts have you undertaken to address such concerns?

In addition to the specific questions above, NIOSH would also like to hear from researchers currently conducting research on stress, burnout, and other mental health and well-being concerns among a broad range of health workers.

John J. Howard,
Administrator, World Trade Center Health Program and Director, National Institute for Occupational Safety and Health, Centers for Disease Control and Prevention, Department of Health and Human Services.

[FR Doc. 2021-20931 Filed 9-24-21; 8:45 am]

BILLING CODE 4163-18-P